OFFICE OF PERSONNEL MANAGEMENT

48 CFR Part 1733

RIN 3206-AK07

Protests, Disputes, and Appeals

AGENCY: Office of Personnel Management.

ACTION: Final rule.

SUMMARY: The Office of Personnel Management (OPM) is issuing a final rule to reflect a change of address for the Interior Board of Contract Appeals (IBCA). IBCA has moved to a new building in Arlington, Virginia.

DATES: This rule is effective October 31, 2003.

FOR FURTHER INFORMATION CONTACT: Henry Wong, Contracting Officer, Office of Personnel Management, Contracting Branch, Room 1342, 1900 E Street, NW., Washington, DC 20415-7710. Telephone: 202-606-1598 Fax number: 202-606-1464, e-mail: hlwong@opm.gov.

SUPPLEMENTARY INFORMATION:

I. Background

II. Procedural Requirements

I. Background

In 48 CFR part 1733, OPM has promulgated regulations concerning disputes and appeals involving OPM contracting officer decisions. Pursuant to a designation by the Director of OPM, appeals under the Contract Disputes Act, 41 U.S.C. 601 et. seq., are handled by IBCA. Since 1970, IBCA has been located at 4015 Wilson Boulevard, and that address is included in two sections within 48 CFR part 1733.

IBCA has relocated to 801 North Quincy Street, Arlington, Virginia. OPM is revising its administrative appeals regulations to reflect IBCA's new street address.

II. Procedural Requirements

A. Determination To Issue Final Rule Effective in Less Than 30 Days

OPM has determined that the general notice of proposed rulemaking and comment provisions of the Administrative Procedures Act, 5 U.S.C. 553(b), do not apply to this rulemaking because the changes being made relate solely to matters of agency organization, procedure, and practice. They therefore satisfy the exemption from notice and comment rulemaking in 5 U.S.C. 553 (b)(A).

B. Review Under Procedural Statutes and Executive Orders

OPM has reviewed this rule under the following statutes and executive orders governing rulemaking procedures: The Unfunded Mandates Reform Act of 1995,2 U.S.C.1501 et. seq.; the Regulatory Flexibility Act, 5 U.S.C. 601 et. seq.; the Small Business. Regulatory Enforcement Fairness Act of 1996, 5 U.S.C. 801 et. seq.; the Paperwork Reduction Act, 44 U.S.C. 3501 et. seq.; the National Environmental Policy Act of 1969, 42 U.S.C. 4321 et. seq.; Executive Order 12630 (Takings); Executive Order 12866 (Regulatory Planning and Review); Executive Order 12988 ( Civil Justice Reform); Executive Order 13132 (Federalism); Executive Order 13175 (Tribal Consultation); and Executive Order 13211 (Energy Impacts). OPM has determined that this rule does not trigger any of the procedural requirements of those statutes and executive orders, since this rule merely changes the street address for IBCA.

Regulatory Flexibility Act

I certify that these regulations would not have a significant economic impact on a substantial number of small entities because they would apply only to Federal agencies and employees.

Executive Order 12860, Regulatory Review

This rule has been reviewed by the Office of Management and Budget in accordance with E.O. 12866.

List of Subjects in 48 CFR Part 1733

Administrative practices and procedures, Government procurement.

U.S. Office of Personnel Management.
Kay Coles James,
Director.

For reasons stated in the preamble, OPM amends its regulations in 48 CFR part 1733 as follows:

PART 1733—[AMENDED]

1. The authority citation for part 1733 continues to read as follows:

Authority: 40 U.S.C 486(c); 48 CFR 1.301.

2. In part 1733 of 48 CFR, remove all references to “4015 Wilson Boulevard” and add in its place “801 North Quincy Street”.

[FR Doc. 03-27381 Filed 10-30-03; 8:45 am]

BILLING CODE 6325-44-P